DEPARTMENT OF THE INTERIOR

National Park Service

[NPS-WASO-NRNHL-DTS#-31331; PPWOCRADI0, PCU00RP14.R50000]

National Register of Historic Places; Notification of Pending Nominations and Related Actions

AGENCY: National Park Service, Interior.

ACTION: Notice.

SUMMARY: The National Park Service is soliciting electronic comments on the significance of properties nominated before December 25, 2020, for listing or related actions in the National Register of Historic Places.

DATES: Comments should be submitted electronically by January 26, 2021.

ADDRESSES: Comments are encouraged to be submitted electronically to National_Register_Submissions@nps.gov with the subject line “Public Comment on property or proposed district name, (County) State.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before December 25, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Orange County

Johnson, Hugh Edgar, House, 444 W. Brookdale Pl., Fullerton, SG100006089

FLORIDA

Monroe County

Matecumbe Methodist Church Cemetery, 81801 Overseas Hwy., Islamorada, SG100006117

Pinellas County

House at 827 Mandalay Avenue, 827 Mandalay Ave., Clearwater, SG100006118

Sumter County

Wild Cow Prairie Cemetery, 5822 Cty. Rd. 673, Bushnell vicinity, SG100006119

Volusia County

Wright, James W., Building, 258 West Voorhis Ave., DeLand, SG100006120

Walton County

Herman Lodge No. 108 Free & Accepted Masons of Florida, 314 Madison St., Freeport, SG100006121

ILLINOIS

Cook County

Irving, James B., House, 2771 Crawford Ave., Evanston, SG100006102

Lake County

Fagen, Mildred and Abel, House, 1711 Devonshire Ln., Lake Forest, SG100006090

IOWA

Linn County

Harris, Dr. Percy and Lileah, House, (Twentieth Century African American Civil Rights-related Resources in Iowa MPS), 3626 Bever Ave. SE, Cedar Rapids, MP100006115

MASSACHUSETTS

Plymouth County

Myles Standish Park and Myles Standish House Site, 0 Mayflower Dr., Duxbury, SG100006091

Worcester County

Stone, Lucy, Home Site, 69 Coy Hill Rd., West Brookfield, SG100006122

MICHIGAN

Wayne County

Birwood Wall, (The Civil Rights Movement in Detroit, Michigan, 1900-1976 MPS), Along the alleyway between Birwood Ave. and Mendota St. from Eight Mile Rd. to Pembroke Ave., Detroit, MP100006100

WGPR-TV Studio, (The Civil Rights Movement in Detroit, Michigan, 1900-1976 MPS), 3146 East Jefferson Ave., Detroit, MP100006101

MISSISSIPPI

Bolivar County

AMPCO Manufacturing Plant, 101 AMPCO Rd., Rosedale, SG100006103

Clay County

Kenneth G. Neigh Dormitory Complex, 276 Mary Holmes Row, West Point, SG100006106

Jackson County

Building at 707 Krebs Avenue, 707 Krebs Ave., Pascagoula, SG100006109

NEW YORK

Niagara County

Main Street Historic District, 1300-2127 Main St., 813-822 Cleveland Ave., 833 Lincoln Pl., 801-831 Linwood Ave., 1600 Lockport St., 800-909 Niagara Ave., 908-919 Ontario Ave., 832-919 Ontario Ave., 832 Pierce Ave., 1317-1329 Portage Rd., 835 Willow Ave., Niagara Falls, SG100006092

Suffolk County

Eagle's Nest (Boundary Increase), (Huntington Town MRA), 180 and 185 Little Neck Rd., Centerport, BC100006094

OHIO

Cuyahoga County

Oakwood Club Subdivision Historic District, 1538-1688 Oakwood Dr., 1598,1681 Wood Rd., Cleveland Heights, SG100006098

Franklin County

Carnegie Library Otterbein University, 102 West College Ave., Westerville, SG100006110

Lanman-Ingram House, 2015 West Fifth Ave., Marble Cliff, SG100006113

Summit County

Berkshire Park Historic District, Roughly Bounded by Oakwood Dr., Roosevelt Ave., Elmwood St., 4th St., 3rd St., Miller Ct., Cuyahoga Falls, SG100006088

A. Schrader's Son, Inc. of Ohio Buildings, 705-711 Johnston St., Akron, SG100006104

PENNSYLVANIA

Philadelphia County

Henry Whitaker's Sons' Mill, 2000 East Westmoreland St, Philadelphia, SG100006096

SOUTH DAKOTA

Gregory County

Gregory County Courthouse, (County Courthouses of South Dakota MPS), 221 East 8th St., Burke, MP100006095

WISCONSIN

Door County

Potawatomi State Park Observation Tower, 3740 County PD, Nasewaupee, SG100006108

Green Lake County

Methodist Episcopal Church, 240 West 2nd St., Marquette, SG100006107

Milwaukee County

Lincoln Creek Parkway, (Milwaukee County Parkway System MPS), Located between West Lincoln Creek Dr. at West Hampton Ave., and Meaux Park, Milwaukee, MP100006105

WYOMING

Carbon County

Pine Grove Station (Boundary Increase), Address Restricted, Rawlins vicinity, BC100006112

A request for removal has been made for the following resource:

FLORIDA

Brevard County

Whaley, Marion S., Citrus Packing House, 2275 US 1, Rockledge, OT93000286

Additional documentation has been received for the following resources:

NEW YORK

Suffolk County

Eagle's Nest (Additional Documentation), (Huntington Town MRA), Little Neck Rd., Huntington, AD85002545

WYOMING

Carbon County

Pine Grove Station Site (Additional Documentation), Address Restricted, Rawlins vicinity, AD78002820

Authority: Section 60.13 of 36 CFR part 60.

Dated: December 30, 2020.
Sherry Frear,
Chief, National Register of Historic Places/National Historic Landmarks Program.

[FR Doc. 2021-00267 Filed 1-8-21; 8:45 am]

BILLING CODE 4312-52-P